DEPARTMENT OF COMMERCE

National Oceanic and Atmospheric Administration

[RTID 0648-XF342]

Fisheries of the South Atlantic; Southeast Data, Assessment, and Review (SEDAR); Public Meeting

AGENCY: National Marine Fisheries Service (NMFS), National Oceanic and Atmospheric Administration, Commerce.

ACTION: Notice of Review Workshop for the South Atlantic Red Snapper Research Project.

SUMMARY: The review of the South Atlantic Red Snapper Research Project (SARSRP) will be conducted via an in-person review workshop. See SUPPLEMENTARY INFORMATION.

DATES: The SARSRP Review Workshop is scheduled for January 13-15, 2026. The meetings will be held from 8:30 a.m. until 5:30 p.m. Eastern each day.

ADDRESSES:

Meeting address: The SARSRP Review Workshop will be held at the Drury Plaza Hotel North Charleston, 2934 West Montague, North Charleston, SC 29418. The meeting will be livestreamed. Individuals may register by going to the South Carolina Sea Grant Consortium website: https://sarsrp.scseagrant.org/report/.

SEDAR address: South Atlantic Fishery Management Council, 4055 Faber Place Drive, Suite 201, North Charleston, SC 29405. www.sedarweb.org.

FOR FURTHER INFORMATION CONTACT: Julie A Neer, SEDAR Coordinator, 4055 Faber Place Drive, Suite 201, North Charleston, SC 29405; phone (843) 302-8434; email: Julie.neer@safmc.net.

SUPPLEMENTARY INFORMATION: This SARSRP population estimation study is separate from the traditional data collection processes used to inform stock assessments. This study was designed with careful consideration of methods to support practical application by management. Therefore, the data will be considered for incorporation into the stock assessment following review by the Center for Independent Experts (CIE). Next, the South Atlantic Fishery Management Council (SAFMC)'s Scientific and Statistical Committee (SSC) will review the data and consider it for incorporation in the red snapper stock assessment.

Visit the South Carolina Sea Grant Consortium website for more information on the project and draft report: https://sarsrp.scseagrant.org.

Selected reviewers will have expertise in the methods used to produce the population estimates. Following this review, the research team will have time to respond and make revisions. The full integration into management decisions will come later. Early findings should not be over-interpreted.

The Gulf, South Atlantic, and Caribbean Fishery Management Councils, in conjunction with NMFS and the Atlantic and Gulf States Marine Fisheries Commissions have implemented the SEDAR process, a multi-step method for determining the status of fish stocks in the Southeast Region. SEDAR is a participatory process for developing, evaluating and reviewing information used for fisheries management advice. The process may include (1) a Data stage, and (2) an Assessment stage, and (3) a Review stage. The product of the Review Workshop is a Review Summary documenting panel opinions regarding the strengths and weaknesses of the products reviewed. Review materials will be posted at https://sarsrp.scseagrant.org/report/.

The items of discussion in the Review Workshop are as follows:

Participants will evaluate the technical merits of the SARSRP reports, as specified in the Terms of Reference for the workshop, and determine if they are scientifically sound.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

The established times may be adjusted as necessary to accommodate the timely completion of discussion relevant to the assessment process. Such adjustments may result in the meeting being extended from or completed prior to the time established by this notice.

Special Accommodations

These meetings are physically accessible to people with disabilities. Requests for sign language interpretation or other auxiliary aids should be directed to the SAFMC office (see ADDRESSES) at least 5 business days prior to each workshop.

Note: The times and sequence specified in this agenda are subject to change.

Authority: 16 U.S.C. 1801 et seq.

Dated: December 17, 2025.
Rey Israel Marquez,
Acting Deputy Director, Office of Sustainable Fisheries, National Marine Fisheries Service.

[FR Doc. 2025-23441 Filed 12-18-25; 8:45 am]

BILLING CODE 3510-22-P